DEPARTMENT OF DEFENSE

Department of the Army; Corps of Engineers

Intent To Prepare a Draft Supplemental Environmental Impact Statement for the Louisiana Coastal Area (LCA)—Louisiana, Maintain Landbridge Between Caillou Lake and the Gulf of Mexico Feasibility Study

AGENCY: Department of the Army, U.S. Army Corps of Engineers, DoD.

ACTION: Notice of intent.

SUMMARY: The U.S. Army Corps of Engineers (USACE), along with its local sponsor the Louisiana Office of Coastal Protection and Restoration, intends to prepare a supplemental environmental impact statement (SEIS) for the Louisiana Coastal Area (LCA)—Louisiana, Maintain Land Bridge between Caillou Lake and the Gulf of Mexico restoration project. This restoration project will examine measures to increase the stability of the land bridge separating Caillou (Sister) Lake from the Gulf of Mexico. This SEIS will tier from the programmatic EIS for the Louisiana Coastal Area (LCA)—Louisiana, Ecosystem Restoration Study, November 2004. The Record of Decision for the programmatic EIS was signed on November 18, 2005.

DATES: See SUPPLEMENTARY INFORMATION section for scoping meeting dates.

FOR FURTHER INFORMATION CONTACT: Questions concerning the draft SEIS should be addressed to Dr. William P. Klein, Jr., CEMVN-PM-RS, P.O. Box 60267, New Orleans, LA 70160-0267; telephone: (504) 862-2540; fax: (504) 862-1583; or by e-mail: william.p.klein.jr@usace.army.mil.

SUPPLEMENTARY INFORMATION:

1. Authority. This SEIS will tier from the programmatic EIS for the Louisiana Coastal Area (LCA)—Louisiana, Ecosystem Restoration Study, November 2004. The Record of Decision for the Programmatic EIS was signed on November 18, 2005. The Water Resources Development Act of 2007 (WRDA 2007) authorized the LCA ecosystem restoration program. The authority includes requirements for comprehensive planning, program governance, implementation, and other program components. The LCA restoration program will facilitate the implementation of critical restoration features and essential science and technology demonstration projects, increase the beneficial use of dredged material and determine the need for modification of selected existing projects to support coastal restoration objectives. The LCA near-term plan includes fifteen elements authorized for implementation contingent upon meeting certain reporting requirements. Specifically, Section 7006(e) of WRDA 2007 authorizes the Secretary of the Army to carry out additional projects referred to in the restoration plan. Section 7006(e)(1) authorizes the following additional projects: Maintain Land Bridge between Caillou Lake and the Gulf of Mexico at a total cost of $56,300,000; Stabilize the Gulf Shoreline at Point Au Fer Island project at a total cost of $43,400,000; the Modification of Caernarvon Diversion project at a total cost of $20,700,000; and the Modification of Davis Pond Diversion Project at a total cost of $64,200,000; if the Secretary of the Army determines such projects are feasible.

2. Proposed Action. The LCA Maintain Land Bridge between Caillou (Sister) Lake and the Gulf of Mexico restoration project would propose measures to increase the stability of the land bridge separating Caillou (Sister) Lake from the Gulf of Mexico. The objectives of the restoration project are to stem shoreline retreat and prevent further breaches that have allowed increased water exchange between the gulf and the interior water bodies (Bay Junop and Caillou (Sister) Lake). Prevention of increased marine influence would reduce interior wetland loss as well as preserve the potential for long-range restoration. Closure of newly opened channels would restore historic cross-sections of exchange points, would reduce marine influences in interior areas, and allow increased freshwater influence from Four League Bay to benefit area marshes.

3. Public Involvement. Public involvement, an essential part of the SEIS process, is integral to assessing the environmental consequences of the proposed action and improving the quality of the environmental decision making process. The public includes affected and interested Federal, state, and local agencies, Indian tribes, concerned citizens, stakeholders, and other interested parties. Public participation in the SEIS process will be strongly encouraged, both formally and informally, to enhance the probability of a more technically accurate, economically feasible, and socially and politically acceptable SEIS. Public involvement will include but is not limited to: Information dissemination; identification of problems, needs and opportunities; idea generation; public education; problem solving; providing feedback on proposals; evaluation of alternatives; public and scoping notices and meetings; public, stakeholder and advisory groups consultation and meetings; and making the SEIS and supporting information readily available in conveniently located places, such as libraries and on the World Wide Web.

4. Scoping. Scoping, an early and open process for identifying the scope of significant issues related to the proposed action to be addressed in the SEIS, will be used to: (a) Identify the affected public and agency concerns; (b) facilitate an efficient SEIS preparation process; (c) define the issues and alternatives that will be examined in detail in the SEIS; and (d) save time in the overall process by helping to ensure that the draft SEIS adequately addresses relevant issues. A Scoping Meeting Notice announcing the locations, dates and times for scoping meetings will be mailed to all interested parties in August 2009.

5. Coordination. The USACE and the U.S. Fish and Wildlife Service (USFWS) have formally committed to work together to conserve, protect, and restore fish and wildlife resources while ensuring environmental sustainability of our Nation's water resources under the January 22, 2003, Partnership Agreement for Water Resources and Fish and Wildlife. The USFWS will provide a Fish and Wildlife Coordination Act Report. Coordination will be maintained with the USFWS and the National Marine Fisheries Service (NMFS) regarding threatened and endangered species under their respective jurisdictional responsibilities. Coordination will be maintained with the NMFS regarding essential fish habitat. Coordination will be maintained with the Natural Resources Conservation Service regarding prime and unique farmlands. The U.S. Department of Agriculture will be consulted regarding the “Swampbuster” provisions of the Food Security Act. Coordination will be maintained with the U.S. Environmental Protection Agency concerning compliance with Executive Order 12898, “Federal Action to Address Environmental Justice in Minority Populations and Low-Income Populations.” Coordination will be maintained with the Advisory Counsel on Historic Preservation and the State Historic Preservation Officer. The Louisiana Department of Natural Resources will be consulted regarding consistency with the Coastal Zone Management Act. The Louisiana Department of Wildlife and Fisheries will be consulted concerning potential impacts to Natural and Scenic Streams, and fish and wildlife issues including coordination regarding the Sister Lake Public Oyster Seed Reservation.

5. Availability of Draft SEIS. The earliest that the draft SEIS will be available for public review would be in spring of 2011. The draft SEIS or a Notice of Availability will be distributed to affected Federal, state, and local agencies, Indian tribes, and other interested parties.

Dated: August 25, 2009.
Alvin B. Lee,
Colonel, US Army, District Commander.

[FR Doc. E9-21374 Filed 9-3-09; 8:45 am]

BILLING CODE 3720-58-P